DEPARTMENT OF TRANSPORTATION

Pipeline and Hazardous Materials Safety Administration

Hazardous Materials: Notice of Applications for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 25, 2016.

ADDRESSES COMMENTS TO: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(6); 49 CFR 1.53(b)).

Issued in Washington, DC, on March 10, 2016.
Donald Burger,
Chief, Office of the Special Permits and Approvals.

Application number | Docket number | Applicant | Regulation(s) affected | Nature of the special permits thereof
SPECIAL PERMITS DATA
9393-M |  | ITW Sexton, Inc | 178.33-8(a), 178.65(a), 178.65(c) | To modify the special permit to authorize burst testing and modify the pressure relief device (PRD) requirements.
10704-M |  | Boost Oxygen, LLC |  | To modify the special permit to authorize a lower minimum burst pressure and pressure rating.
14282-M |  | Innovative Technology Partnerships, LLC | 177.835(g), 172.301(c) | To modify the special permit to authorize the transportation in commerce of packages which may contain explosives and inert/benign cushioning to ensure the package is full.
16011-M |  | Americase, Inc |  | To modify the special permit to authorize a thermally insulated fiberboard packaging for transporting recalled and damaged lithium batteries and equipment powered by lithium batteries by reducing certain hazard communication requirements.
16081-M |  | Cabela's Incorporated | 178.602, 173.22a(c) | To modify the special permit to authorize additional Division 1.4 materials and no longer require a copy of the special permit to be furnished to the carrier.
16461-M |  | Coastal |  | To modify the Hydrotesting, special permit to LLC authorize the addition of an aluminum alloy not previously authorized under the terms of the special permit.

[FR Doc. 2016-05921 Filed 3-24-16; 8:45 am]

BILLING CODE 4909-60-M